DEPARTMENT OF LABOR

Employment and Training Administration

Workforce Investment Act of 1998 (WIA); Notice of Incentive Funding Availability for Program Year (PY) 2009 Performance; Correction

AGENCY: Employment and Training Administration, Labor.

ACTION: Notice; correction.

SUMMARY: The Employment and Training Administration (ETA) published in the Federal Register on May 9, 2011, an announcement from the Department of Labor, in collaboration with the Department of Education, regarding which states are eligible to apply for WIA (Pub. L. 105-220, 29 U.S.C. 2801 et seq.) incentive awards under WIA section 503. The May 9, 2011, announcement did not include the appendix referencing which states passed the WIA portion and Adult Education and Family Literacy Act of the incentives review, respectively; the notice has been updated to include this appendix. Please note that no information has changed on the notice, nor has the number of states eligible for incentive funding.

DATES: This Notice is effective on June 7, 2011.

FOR INFORMATION CONTACT: Karen A. Staha or Luke Murren, U.S. Department of Labor, Employment and Training Administration, Division of Strategic Planning and Performance, 200 Constitution Avenue, NW., Room N-5641, Washington, DC 20210. Telephone number: 202-693-3733 (this is not a toll-free number). Fax: 202-693-3490. E-mail: staha.karen@dol.gov or murren.luke@dol.gov. Information may also be found at the ETA Performance Web site: http://www.doleta.gov/performance.

Correction

In the Federal Register published on May 9, 2011, on page 26769, the PY 2008-FY 2009 Incentive Grants Exceeded State Performance Levels chart (see Appendix) should be added to read as:

Appendix
State | Incentive Grants PY 2008-FY 2009 Exceeded State Performance Levels: WIA (Title IB) | Incentive Grants PY 2008-FY 2009 Exceeded State Performance Levels: AEFLA (adult education) | Incentive Grants PY 2008-FY 2009 Exceeded State Performance Levels: WIA Title IB; AEFLA
Alabama |  | X |
Alaska |  |  |
Arizona | X | X | X
Arkansas | X |  |
California |  | X |
Colorado |  | X |
Connecticut |  |  |
District of Columbia |  |  |
Delaware |  | X |
Florida | X |  |
Georgia |  |  |
Hawaii |  |  |
Idaho |  |  |
Illinois |  | X |
Indiana |  |  |
Iowa |  |  |
Kansas |  |  |
Kentucky |  |  |
Louisiana |  | X |
Maine |  |  |
Maryland |  |  |
Massachusetts |  | X |
Michigan |  |  |
Minnesota | X | X | X
Mississippi |  |  |
Missouri |  | X |
Montana |  |  |
Nebraska |  |  |
Nevada | X |  |
New Hampshire |  | X |
New Jersey |  |  |
New Mexico |  |  |
New York |  | X |
North Carolina |  |  |
North Dakota | X | X | X
Ohio |  |  |
Oklahoma |  |  |
Oregon |  |  |
Pennsylvania |  | X |
Puerto Rico |  |  |
Rhode Island |  | X |
South Carolina |  |  |
South Dakota |  |  |
Tennessee |  | X |
Texas | X | X | X
Utah |  | X |
Vermont |  |  |
Virginia |  |  |
Washington |  |  |
West Virginia |  |  |
Wisconsin |  |  |
Wyoming |  |  |
States in bold exceeded their performance levels for both AEFLA and WIA Title IB programs.

Signed in Washington, DC, on this 31st day of May 2011.
Jane Oates,
Assistant Secretary for Employment and Training.

[FR Doc. 2011-13938 Filed 6-6-11; 8:45 am]

BILLING CODE 4510-FN-P